DEPARTMENT OF HEALTH AND HUMAN SERVICES

Food and Drug Administration

Blood Products Advisory Committee; Amendment of Notice

AGENCY: Food and Drug Administration, HHS.

ACTION: Notice.

SUMMARY: The Food and Drug Administration (FDA) is announcing an amendment to the notice of meeting of the Blood Products Advisory Committee. This meeting was announced in the Federal Register of February 25, 2004 (69 FR 8666). The amendment is being made to reflect a change in the Location portion of the document. The street address of the hotel was originally posted as 2 Montgomery Ave. The correct street address is 2 Montgomery Village Ave. There are no other changes.

FOR FURTHER INFORMATION CONTACT: Linda A. Smallwood, Center for Biologics Evaluation and Research (HFM-302), Food and Drug Administration, 1401 Rockville Pike, Rockville, MD 20852, 301-827-3514.

SUPPLEMENTARY INFORMATION: In the Federal Register of February 25, 2004, FDA announced that a meeting of the Blood Products Advisory Committee would be held on March 18 and 19, 2004. On page 8666, in the first column, the Location portion of the document is amended to read as follows:

Location: Holiday Inn, Gaithersburg, 2 Montgomery Village Ave., Gaithersburg, MD 20877.

This notice is issued under the Federal Advisory Committee Act (5 U.S.C. app. 2) and 21 CFR part 14, relating to the advisory committees.

Dated: March 3, 2004.
Peter J. Pitts,
Associate Commissioner for External Relations.

[FR Doc. 04-5239 Filed 3-8-04; 8:45 am]

BILLING CODE 4160-01-S